DEPARTMENT OF DEFENSE

Office of the Secretary

32 CFR Part 320

[Docket ID: DOD-2019-OS-0082]

RIN 0790-AK66

National Geospatial-Intelligence Agency (NGA) Privacy Program

AGENCY: National Geospatial-Intelligence Agency, DoD.

ACTION: Final rule.

SUMMARY: This final rule removes DoD's regulation concerning the National Geospatial-Intelligence Agency (NGA) Privacy Program. On April 11, 2019, the Department of Defense published a revised DoD-level Privacy Program rule, which contains the necessary information for an agency-wide privacy program regulation under the Privacy Act and now serves as the single Privacy Program rule for the Department. That revised Privacy Program rule also includes all DoD component exemption rules. Therefore, this part is now unnecessary and may be removed from the CFR.

DATES: This rule is effective on July 6, 2020.

FOR FURTHER INFORMATION CONTACT: Terrance Reeves, 571-558-7641.

SUPPLEMENTARY INFORMATION: DoD now has a single DoD-level Privacy Program rule at 32 CFR part 310 (84 FR 14728) that contains all the codified information required for the Department. NGA Program regulation at 32 CFR part 320, last updated on January 14, 2004 (69 FR 2066), is no longer required and can be removed.

It has been determined that publication of this CFR part removal for public comment is impracticable, unnecessary, and contrary to public interest because it is based on the removal of policies and procedures that are either now reflected in another CFR part, 32 CFR 310, or are publicly available on the Department's website. To the extent that NGA internal guidance concerning the implementation of the Privacy Act within the National Geospatial-Intelligence Agency is necessary, it will be issued in an internal document.

This rule is one of 20 separate component Privacy rules. With the finalization of the DoD-level Privacy rule at 32 CFR part 310, the Department is eliminating the need for this separate component Privacy rules and reducing costs to the public as explained in the preamble of the DoD-level Privacy rule published at 84 FR 14728.

This rule is not significant under Executive Order (E.O.) 12866, “Regulatory Planning and Review.” Therefore, E.O. 13771, “Reducing Regulation and Controlling Regulatory Costs” does not apply.

List of Subjects in 32 CFR Part 320

Privacy.

PART 320—[REMOVED]

Accordingly, by the authority of 5 U.S.C. 301, 32 CFR part 320 is removed.

Dated: June 12, 2020.
Aaron T. Siegel,
Alternate OSD Federal Register Liaison Officer, Department of Defense.

[FR Doc. 2020-13114 Filed 7-2-20; 8:45 am]

BILLING CODE 5001-06-P